FEDERAL MEDIATION AND CONCILIATION SERVICE

Labor-Management Relations Information Collection Requests

AGENCY: Federal Mediation and Conciliation Service.

ACTION: 60-Day notice and request for comments.

SUMMARY: The Federal Mediation and Conciliation Service (FMCS), as part of its continuing effort to reduce paperwork burden of arbitrators and parties that request arbitration services in accordance with the Paperwork Reduction Act of 1995, invites the general public and other Federal Agencies to take this opportunity to comment on the following information collection request, Request for Arbitration Services (Agency Form R-43). This information collection request was previously approved by the Office of Management Budget (OMB), and we are requesting a reinstatement without substantive changes, and a change in the fees collected. This information collection request was assigned the OMB control number 3076-0016.

DATES: Comments must be submitted on or before August 6, 2019.

ADDRESSES: Submit written comments by mail to the Office of Arbitration Services, Federal Mediation and Conciliation Service, 250 E Street SW, Washington, DC 20427 or by contacting the person whose name appears under the section headed FOR FURTHER INFORMATION CONTACT.

Comments may be submitted also by fax at (202) 606-8103 or electronic mail (email) to apearlstein@fmcs.gov. All comments must be identified by the appropriate agency form number.

No confidential business information (CBI) should be submitted through email. Information submitted as a comment concerning this document may be claimed confidential by marking any part or all of the information as “CBI”. Information so marked will not be disclosed but a copy of the comment that does contain CBI must be submitted for inclusion in the public record. Information not marked confidential may be disclosed publicly by FMCS without prior notice. All written comments will be available for inspection in Room 7113 at the Washington, DC address above from 8:30 a.m. to 4:30 p.m., Monday through Friday, excluding legal holidays.

FOR FURTHER INFORMATION CONTACT: Arthur Pearlstein, Director of Arbitration Services, FMCS, 250 E Street SW, Washington, DC 20427. Telephone and fax number (202) 606-8103, and email, apearlstein@fmcs.gov.

SUPPLEMENTARY INFORMATION: Copies of the agency form are available from the Office of Arbitration Services by calling, faxing or writing Arthur Pearlstein at the address above. Please ask for the form by title and agency form number.

I. Information Collection Request

Agency: Federal Mediation and Conciliation Service.

Form Number: OMB No. 3076-0016.

Type of Request: Reinstatement of a collection without change in the substance or method of collection.

Name of Form: Request for Arbitration Panel (FMCS Form R-43).

Affected Entities: Employers and their representatives, and labor unions, their representatives and employees, who request arbitration services.

Frequency: This form is completed each time an employer or labor union requests a panel of arbitrators.

Abstract: Pursuant to 29 U.S.C. 171(b) and 29 CFR part 1404, FMCS offers panels of arbitrators for selection by labor and management to resolve grievances and disagreements arising under their collective bargaining agreements and to deal with fact finding and interest arbitration issues as well. This form is used to obtain information such as the parties' names, addresses, and the type of assistance needed. FMCS uses this information to compile panels, selecting arbitrators based in part on such factors as dispute location and issue expertise. The purpose of this information collection is to facilitate the processing of the parties' request for arbitration assistance; it also provides information about the fee to be collected for the agency's service. No third party notification or public disclosure burden is associated with this collection.

Burden: The current total annual burden estimate is that FMCS will receive requests from approximately 16,000 respondents per year. The form takes about 10 minutes to complete.

II. Request for Comments

FMCS solicits comments to:

(i) Evaluate whether the proposed collections of information are necessary for the proper performance of the functions of the agency, including whether the information will have practical utility.

(ii) Enhance the accuracy of the agency's estimates of the burden of the proposed collection of information.

(iii) Enhance the quality, utility, and clarity of the information to be collected.

(iv) Minimize the burden of the collections of information on those who are to respond, including the use of appropriate automated, electronic collection technologies or other forms of information technology.

III. The Official Record

The official record is the paper electronic record maintained at the address at the beginning of this document. FMCS will transfer all electronically received comments into printed-paper form as they are received.

Dated: June 4, 2019.
Jeannette Walters-Marquez,
Certifying Official/Deputy General Counsel.

[FR Doc. 2019-12035 Filed 6-6-19; 8:45 am]

BILLING CODE 6732-01-P